DEPARTMENT OF TRANSPORTATION

Federal Highway Administration

Environmental Impact Statement: Rockingham and Hillsborough Counties, New Hampshire

AGENCY: Federal Highway Administration (FHWA), DOT.

ACTION: Notice of Intent.

SUMMARY: The FHWA is issuing this notice to advise the public of its intent to prepare a supplemental environmental impact statement (SEIS) in cooperation with the New Hampshire Department of Transportation for the proposed improvements to Interstate 93 in Rockingham and Hillsborough Counties, New Hampshire.

FOR FURTHER INFORMATION CONTACT: Mr. Jamison S. Sikora, Environmental and Right of Way Programs Manager, New Hampshire Division, Federal Highway Administration, 19 Chenell Drive, Suite One, Concord, NH 03301, Tel. (603) 228-3057, ext. 107, or Mr. Charles H. Hood, Administrator, Bureau of Environment, New Hampshire Department of Transportation, P.O. Box 483, John O. Morton Building, Concord, New Hampshire 03302-0483, Tele. (603) 271-3226.

SUPPLEMENTARY INFORMATION: The final EIS (FEIS) for the I-93 improvements (FHWA-NH-EIS-02-01-F) was approved on April 28, 2004 and the FHWA Record of Decision (ROD) issued on June 28, 2005. The proposed improvements to this approximately 19.8-mile segment of the Interstate 93 corridor between Salem and Manchester, New Hampshire provide for widening the existing four lane Interstate highway to eight lanes, improvements at each of the five interchange locations along this segment of highway, and addressing existing geometric deficiencies. Improvements to the corridor are considered necessary to improve transportation efficiency and reduce safety deficiencies.

The SEIS will supplement the April 2004 FEIS for the I-93 Salem to Manchester project, which was the subject of litigation and a court decision in Conservation Law Foundation v. Federal Highway Administration, et. al. (U.S. District Court for the District of New Hampshire, Case no.: 1:06-cv-45). In accordance with the court's decision rendered in August 2007, FHWA will prepare an SEIS that specifically considers how the Delphi Panel's population forecasts affect the analysis of both the effectiveness of the Selected Alternative as a traffic congestion reduction measure and the indirect effects of the additional population predicted by those forecasts on secondary road traffic and air quality issues. The court ruled in favor of FHWA and the NHDOT regarding the plaintiff's remaining alleged FEIS deficiencies. Therefore, the SEIS will be of limited scope with the purpose of determining whether the FHWA's 2005 ROD regarding the Selected Alternative remains reasonable once the narrow issues enumerated in the court's memorandum opinion are thoroughly examined and considered. Additionally, the FEIS will be re-evaluated to determine if any other information should be updated and revised as part of the SEIS process in accordance with FHWA's NEPA regulations at 23 CFR 771.129.

In accordance with 23 CFR 771.130(d) and 40 CFR 1502.9(c)(4), scoping will not be reinitiated for the project. Letters describing the proposed action and soliciting comments will be sent to appropriate Federal, State and local agencies, and to private organizations and citizens who have previously expressed or are known to have interest in this proposal. Public meetings will be held during development of the SEIS. In addition, a public hearing will be held. Public notice will be given of the time and place of the meetings and hearing. The draft supplemental EIS will be available for public and agency review and comment prior to the public hearing.

To ensure that the full range of issues related to this proposed action are addressed and all significant issues identified, comments and suggestions are invited from all interested parties. Any comments that are received during the public comment period that address the issues for which the SEIS is being prepared will be considered before FHWA renders its decision regarding the existing selected alternative. Any comments that are received which address issues which the court has already determined have been adequately addressed will be reviewed but not considered unless they raise significant new information.

Comments or questions concerning the development of the SEIS should be directed to the FHWA and/or NHDOT at the addresses provided above. Preparation of the SEIS does not require the withdrawal of any previous approvals or documents.

(Catalog of Federal Domestic Assistance Program Number 20.205, Highway Planning and Construction. The regulations implementing Executive Order 12372 regarding intergovernmental consultation on Federal programs and activities apply to this program.)

Issued on: March 3, 2008.
Kathleen O. Laffey,
Division Administrator, Federal Highway Administration, Concord, New Hampshire.

[FR Doc. 08-979 Filed 3-11-08; 8:45am]

BILLING CODE 4910-22-P